DEPARTMENT OF COMMERCE

National Oceanic and Atmospheric Administration

Interagency Marine Debris Coordinating Committee Meeting

AGENCY: National Ocean Service (NOS), National Oceanic and Atmospheric Administration (NOAA), Department of Commerce (DOC).

ACTION: Notice of open meeting.

SUMMARY: Notice is hereby given of a virtual public meeting of the Interagency Marine Debris Coordinating Committee (IMDCC). IMDCC members will discuss federal marine debris activities, with a particular emphasis on the topics identified in the section on Matters to Be Considered.

DATES: The virtual public meeting will be held on March 29, 2022 from 10 a.m. to 11 a.m. ET.

ADDRESSES: The meeting will be held virtually using Adobe Connect. You can connect to the meeting using the website or phone number provided:

Meeting link: https://noaaorr.adobeconnect.com/imdcc/.

Phone: +1 866-399-2601; PIN: 8663992601.

Attendance will be limited to 100 individuals. Refer to the Interagency Marine Debris Coordinating Committee website at https://marinedebris.noaa.gov/IMDCC for the most up-to-date information on how to participate and on the agenda.

FOR FURTHER INFORMATION CONTACT: Ya'el Seid-Green, Executive Secretariat, Interagency Marine Debris Coordinating Committee, Marine Debris Program; Phone 240-533-0399; Email yael.seid-green@noaa.gov or visit the Interagency Marine Debris Coordinating Committee website at https://marinedebris.noaa.gov/IMDCC.

SUPPLEMENTARY INFORMATION:

The Interagency Marine Debris Coordinating Committee (IMDCC) is a multi-agency body responsible for coordinating a comprehensive program of marine debris research and activities among Federal agencies, in cooperation and coordination with non-governmental organizations, industry, academia, States, Tribes, and other nations, as appropriate. Representatives meet to share information, assess and promote best management practices, and coordinate the Federal Government's efforts to address marine debris.

The Marine Debris Act establishes the IMDCC (33 U.S.C. 1954). The IMDCC submits biennial progress reports to Congress with updates on activities, achievements, strategies, and recommendations. The National Oceanic and Atmospheric Administration serves as the Chairperson of the IMDCC.

The meeting will be open to public attendance on March 29, 2022, from 10 a.m. to 11 a.m. ET. There will not be a public comment period. The meeting will not be recorded.

Matters To Be Considered

The open meeting will include a presentation from the Department of State on international plastic pollution negotiations. The agenda topics described are subject to change. The latest version of the agenda will be posted at https://marinedebris.noaa.gov/IMDCC.

Special Accommodations

The meeting is accessible to people with disabilities. Closed captioning will be available. Requests for other auxiliary aids should be directed to Ya'el Seid-Green, Executive Secretariat at yael.seid-green@noaa.gov or 240-533-0399 by March 21, 2022.

Scott Lundgren,
Director, Office of Response and Restoration, National Ocean Service.

[FR Doc. 2022-05551 Filed 3-15-22; 8:45 am]

BILLING CODE 3510-NK-P